NATIONAL SCIENCE FOUNDATION

Advisory Committee for Education and Human Resources Notice of Meeting

In accordance with the Federal Advisory Committee Act (Pub. L. 92-463, as amended), the National Science Foundation (NSF) announces the following meeting:

NAME AND COMMITTEE CODE: Advisory Committee for Education and Human Resources (#1119).

DATE AND TIME:

June 12, 2017; 8:00 a.m.-5:00 p.m.

June 13, 2017; 8:00 a.m.-3:00 p.m.

PLACE: National Science Foundation, 4201 Wilson Boulevard, Room 1235, Arlington, VA 22230.

To attend the meeting, all visitors must contact the Directorate for Education and Human Resources (EHR), Office of the Assistant Director (OAD) at 703-292-8600 or email (ehr_ac@nsf.gov) before noon, Friday, June 9, 2017, to arrange for a visitor's badge. All visitors must report to the NSF visitor desk located in the lobby at the 9th and N. Stuart Streets entrance at 4201 Wilson Blvd. on the day of the meeting to receive a visitor's badge. All visitors must present a valid state-issued identification card or passport to enter all federal buildings.

Meeting materials and minutes will also be available on the EHR Advisory Committee Web site at https://www.nsf.gov/ehr/advisory.jsp.

TYPE OF MEETING: Open.

CONTACT PERSON: Keaven M. Stevenson, National Science Foundation, 4201 Wilson Boulevard, Room 805, Arlington, VA 22230; (703) 292-8600; kstevens@nsf.gov.

SUMMARY OF MINUTES: May be obtained from Dr. Susan E. Brennan, National Science Foundation, 4201 Wilson Boulevard, Room 855, Arlington, VA 22230; (703) 292-5096; SBrennan@nsf.gov.

PURPOSE OF MEETING: To provide advice with respect to the Foundation's science, technology, engineering, and mathematics (STEM) education and human resources programming.

AGENDA: Agenda Topics.

Monday, June 12, 2017; 8:00 a.m.-5:00 p.m.

• Remarks by the Committee Chair and NSF Assistant Director for Education and Human Resources (EHR)

• EHR Investments in the STEM Workforce

• Lifelong Learning for a Skilled Technical Workforce

• The Many Faces of the STEM Workforce: Broadening Participation

• Increasing Public Ownership of Scientific Research

• Views from NSF's Research Directorates

• Discussion with NSF Director France Córdova

Tuesday June 13, 2017; 8:00 a.m.-3:00 p.m.

• Recommendations to EHR

• Committee of Visitor Reports

• Update on NSF INCLUDES

• Open Licensing: Status Report and Discussion

• Adjournment

Final agenda will be located at https://www.nsf.gov/ehr/advisory.jsp.

Dated: May 8, 2017.
Crystal Robinson,
Committee Management Officer.

[FR Doc. 2017-09565 Filed 5-10-17; 8:45 am]

BILLING CODE 7555-01-P